DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed collection: “Optional Use Payroll Form Under the Davis-Bacon Act” (WH-347). A copy of the proposed information collection request can be obtained by contacting the office listed below in the ADDRESSES section of this Notice.

DATES: Written comments must be submitted to the office listed in the ADDRESSES section below on or before November 26, 2002.

ADDRESSES: Ms. Patricia A. Forkel, U.S. Department of Labor, 200 Constitution Ave., NW., Room S-3201, Washington, DC 20210, telephone (202) 693-0339, fax (202) 693-1451, E-mail pforkel@fenix2.dol-esa.gov. Please use only one method of transmission for comments (mail, fax, or E-mail).

SUPPLEMENTARY INFORMATION

I. Background

The WH-347 is an optional form which may be used by contractors and subcontractors to certify payrolls, attesting that proper wage rates and fringe benefits have been paid to their employees performing work on contracts covered by the Davis-Bacon and related Acts and the Copeland Act. Contracting officials and Wage-Hour investigative staff use these payrolls to verify that legal rates are paid and as an aid in determining whether employees have been properly classified for the work they perform. This information collection is currently approved for use through March 31, 2003.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval to collect this information in order to carry out its responsibility to determine a contractor's compliance with provisions of the Davis-Bacon and Related Acts and the Copeland Act. There is a revision in the language in the instructions for completing the WH-347 to reflect that overtime pay under the Contract Work Hours and Safety Standards Act is no longer required for hours worked in excess of eight in a day, and to correctly reference the Act.

Type of Review: Revision.

Agency: Employment Standards Administration.

Title: Optional Use Payroll Form Under the Davis-Bacon Act.

OMB Number: 1215-0149.

Affected Public: Business or other for-profit; Individuals or households; State, Local or Tribal Government; Federal Government.

Total Respondents: 100,880.

Frequency: Weekly.

Total Responses: 9,280,960.

Estimated Total Burden Hours: 8,700,000.

Total Burden Cost (capital/startup): $0.

Total Burden Cost (operating/maintenance): $371,238.

Comments submitted in response to this notice will be summarized and/or included in the request for Office of Management and Budget approval of the information collection request; they will also become a matter of public record.

Dated: Sepetember 19, 2002.
Margaret J. Sherrill,
Chief, Branch of Management Review and Internal Control, Division of Financial Management, Office of Management, Administration and Planning, Employment Standards Administration.

[FR Doc. 02-24497 Filed 9-26-02; 8:45 am]

BILLING CODE 4510-27-P